ENVIRONMENTAL PROTECTION AGENCY

40 CFR Part 52

[IL223-1a; FRL-7784-6]

Approval and Promulgation of State Implementation Plans; Illinois

AGENCY: Environmental Protection Agency (EPA).

ACTION: Direct final rule.

SUMMARY: The EPA is approving a site-specific revision to the Illinois volatile organic compound (VOC) State Implementation Plan (SIP) for Argonne National Laboratory's (Argonne) degreasing operations. Argonne is a United States government-owned research and development facility in Argonne, DuPage County, Illinois. By its submittal dated March 11, 2004, the Illinois Environmental Protection Agency (Illinois EPA) requested that EPA approve an Adjusted Standard, from Illinois' cold cleaning regulations, for Argonne's solvent cleaning operations because its research activities require sample surface areas to be completely free of any residual contamination, necessitating the use of cleaning solvents that exceed the vapor pressure limitations of Illinois' cold cleaning regulations. EPA is approving this adjusted standard because there are no feasible alternatives for the preparation of sample materials and associated apparatus used for research and development at Argonne's DuPage facility and also because no more than one ton per year of solvents are used for cold cleaning. The rationale for the approval and other information are provided in this rulemaking action.

DATES: This “direct final” rule is effective September 27, 2004, unless EPA receives written adverse comment by August 27, 2004. If written adverse comment is received, EPA will publish a timely withdrawal of the direct final rule in the Federal Register and inform the public that the rule will not take effect.

ADDRESSES: Submit your comments, identified by Docket ID No. IL223 by one of the following methods: Federal eRulemaking Portal: http://www.regulations.gov. Follow the on-line instructions for submitting comments.

E-mail: bortzer.jay@epa.gov.

Fax: (312) 886-5824.

Mail: You may send written comments to: J. Elmer Bortzer, Chief, Air Programs Branch (AR-18J), Environmental Protection Agency, 77 West Jackson Boulevard, Chicago, Illinois 60604.

Hand delivery: Deliver your comments to: J. Elmer Bortzer, Chief, Air Programs Branch (AR-18J), U.S. Environmental Protection Agency, Region 5, 77 West Jackson Boulevard, 18th floor, Chicago, Illinois 60604. Such deliveries are only accepted during the Regional Office's official hours of operation. The Regional Office's official hours of business are Monday through Friday, 8:30 a.m. to 4:30 p.m., excluding Federal holidays.

Instructions: Direct your comments to Docket ID No. IL223. EPA's policy is that all comments received will be included in the public docket without change, including any personal information provided, unless the comment includes information claimed to be Confidential Business Information (CBI) or other information whose disclosure is restricted by statute. Do not submit information that you consider to be CBI or otherwise protected through regulations.gov, or e-mail. The federal regulations.gov Web site is an “anonymous access” system, which means EPA will not know your identity or contact information unless you provide it in the body of your comment. If you send an e-mail comment directly to EPA without going through regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, go to Unit I of the SUPPLEMENTARY INFORMATION section of this document.

Docket: All documents in the docket are listed in an index. Although listed in the index, some information is not publicly available, i.e., CBI or other information whose disclosure is restricted by statute. Publicly available docket materials are available in hard copy at Environmental Protection Agency, Region 5, Air and Radiation Division, 77 West Jackson Boulevard, Chicago, Illinois 60604. (We recommend that you telephone Steven Rosenthal, Environmental Engineer, at (312) 886-6052 before visiting the Region 5 office.) This Facility is open from 8:30 a.m. to 4:30 p.m., Monday through Friday, excluding Federal holidays.

FOR FURTHER INFORMATION CONTACT: Steven Rosenthal at (312) 886-6052.

SUPPLEMENTARY INFORMATION: This supplementary information section is organized as follows:

I. General Information.

II. EPA Action and Review.

1. What Action Is EPA Taking Today?

2. Why Is EPA Taking This Action?

3. What Operations Are Covered by the Adjusted Standard?

4. What Information Did Illinois Submit in Support of This SIP?

5. Was a Public Hearing Held?

6. What Led to the SIP Revision and Why Is It Being Approved?

III. Final Rulemaking Action.

IV. Statutory and Executive Order Reviews.

I. General Information.

A. Does This Action Apply to Me?

This action only applies to the Argonne National Laboratory.

B. What Should I Consider as I Prepare My Comments for EPA?

1. Submitting CBI. Do not submit this information to EPA through regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

a. Identify the rulemaking by docket number and other identifying information (subject heading, Federal Register date and page number).

b. Follow directions—The agency may ask you to respond to specific questions or organize comments by referencing a Code of Federal Regulations (CFR) part or section number.

c. Explain why you agree or disagree; suggest alternatives and substitute language for your requested changes.

d. Describe any assumptions and provide any technical information and/or data that you used.

e. If you estimate potential costs or burdens, explain how you arrived at your estimate in sufficient detail to allow for it to be reproduced.

f. Provide specific examples to illustrate your concerns, and suggest alternatives.

II. EPA Action and Review

1. What Action Is EPA Taking Today?

In this action, EPA is approving a site-specific revision to the Illinois VOC SIP for Argonne's (a United States government-owned research and development facility in DuPage County, Illinois) degreasing operations. Specifically, EPA is approving an Adjusted Standard from 35 Ill. Adm. Code 218.182 (Illinois' cold cleaning degreasing regulations) for Argonne's solvent cleaning operations. Pursuant to this adjusted standard, the applicable vapor pressure and other associated requirements of 35 Ill. Code 218.182 do not apply to cold cleaning involving the preparation of sample materials and associated apparatus used for research and development testing and analysis at Argonne. These revised requirements were adopted in the Illinois Pollution Control Board's December 18, 2003, Adjusted Standard AS 03-4.

2. Why Is EPA Taking This Action?

The use of organic solvents that do not meet the cold cleaning vapor pressure requirements, in Section 218.182, is necessary for cold cleaning activities at Argonne involving the preparation of sample materials and associated apparatus for testing and analysis and, typically, the cold cleaning performed at the facility is not done in a conventional cold cleaning degreasing system. The nature of VOCs with higher vapor pressures (the ability to evaporate quickly) is the characteristic needed to perform acceptable cleaning activities in certain research applications, and the use of a wiping technique would result in unacceptable residues on the item to be cleaned.

The amount of solvents used for cold cleaning is relatively small and is not expected to exceed 2000 lbs/year. Also, cold cleaning performed at Argonne is different from typical cold cleaning operations. It does not use typical cold cleaning apparatus, and uses milliliters, rather than gallons, of solvents, and laboratory beakers rather than a sink.

In summary, acceptable cleaning solvents are unavailable for Argonne's research applications and the total increase in emissions is relatively minor.

3. What Operations Are Covered by the Adjusted Standard?

Pursuant to this adjusted standard, the applicable vapor pressure and other requirements of Illinois' cold cleaning regulation do not apply to cold cleaning involving the preparation of sample materials and associated apparatus used for research and development testing and analysis activities conducted at Argonne. The research and development related cleaning activities include washing and rinsing slides, drying glassware, sample preparation, specimen cleaning, gel stain/destaining, membrane rinsing, and the cleaning of small parts and equipment associated with the preparation of sample materials for testing and analysis. The requirements of the adjusted standard do not apply where solvents meeting the vapor pressure limits of 35 Ill. Adm. Code 218.182 can be used without subsequently adversely affecting the validity of research results.

4. What Information Did Illinois Submit in Support of This SIP?

The Illinois EPA submitted the following information and supporting documentation (along with other less substantive procedural documents) in support of its request for an Adjusted Standard for Argonne's solvent cleaning operations.

(a) Argonne's Petition for an Adjusted Standard from 35 Ill. Adm. Code 218.182 filed with the Illinois Pollution Control Board on April 17, 2003. This petition provides a description of its research activities and the nature of the cold cleaning operations performed at Argonne and its difficulties in adequately preparing equipment for certain research applications without the use of common laboratory solvents, such as methanol, ethanol, isopropanol, hexane, and toluene, all of which have vapor pressures that exceed the vapor pressure limit in Illinois' regulation.

(b) Written testimony and associated documents were filed by Argonne with the Illinois Pollution Control Board on September 2, 2003. Argonne's written testimony describes the technical difficulties with wiping and solvents meeting the cold cleaning rule, administrative difficulties with the cold cleaning rule, a summary of research-related cold cleaning activities at Argonne and solvent usage information from 1999-2001.

(c) Written testimony and associated documents were filed by Illinois EPA with the Illinois Pollution Control Board on September 2, 2003. Illinois EPA's testimony supported the infeasibility of Argonne complying with Illinois's existing cold cleaning operation and documented the minimal effect that this adjusted standard would have on ozone air quality.

(d) The transcript of the hearing for the Adjusted Standard held on September 16, 2003. This transcript includes the testimony of experts from both Argonne and Illinois EPA which supports the merits of the adjusted Standard.

(e) The December 18, 2003, Opinion and Order of the Illinois Pollution Control Board, which approved Argonne's Adjusted Standard from the cold cleaning degreasing rules in 35 Ill. Adm. Code 218.182.

5. Was a Public Hearing Held?

A public hearing was held on September 16, 2003, in Wood Dale, Illinois. Both Wood Dale and Argonne are in DuPage County.

6. What Led to the SIP Revision and Why Is It Being Approved?

Argonne petitioned for an Adjusted Standard from Illinois' cold cleaning rule because the vapor pressure limitations in Illinois' rule prevented it from using solvents that would adequately clean the equipment for its research applications. This rule is being approved because it was adequately documented that compliance with Illinois' cold cleaning rule would interfere with the validity of Argonne's research and because the adjusted standard would have only a minimal effect on air quality.

III. Final Rulemaking Action

For the reasons given above, EPA is approving into the Illinois VOC SIP an Adjusted Standard for Argonne, from 35 Ill. Adm. Code 218.182, for its cold cleaning degreasing involving the preparation of sample materials and associated apparatus used for research and development testing and analysis activities conducted at Argonne. This Adjusted Standard (AS 03-4) was adopted by the Illinois Pollution Control Board on December 18, 2003.

The EPA is publishing this action without prior proposal because we view this as a noncontroversial amendment and anticipate no adverse comments. However, in the proposed rules section of this Federal Register publication, we are publishing a separate document that will serve as the proposal to approve the state plan if relevant adverse comments are filed. This rule will be effective September 27, 2004 without further notice unless we receive relevant adverse written comments by August 27, 2004. If we receive such comments, we will withdraw this action before the effective date by publishing a subsequent document that will withdraw the final action. All public comments received will then be addressed in a subsequent final rule based on the proposed action. The EPA will not institute a second comment period. Any parties interested in commenting on this action should do so at this time. If we do not receive any comments, this action will be effective September 27, 2004.

IV. Statutory and Executive Orders Reviews

Executive Order 12866: Regulatory Planning and Review

Under Executive Order 12866 (58 FR 51735, October 4, 1993), this action is not a “significant regulatory action” and therefore is not subject to review by the Office of Management and Budget.

Executive Order 13211: Actions Concerning Regulations That Significantly Affect Energy Supply, Distribution, or Use

For this reason, this action is also not subject to Executive Order 13211, “Actions Concerning Regulations That Significantly Affect Energy Supply, Distribution, or Use” (66 FR 28355, May 22, 2001).

Regulatory Flexibility Act

This action merely approves state law as meeting Federal requirements and imposes no additional requirements beyond those imposed by state law. Accordingly, the Administrator certifies that this rule will not have a significant economic impact on a substantial number of small entities under the Regulatory Flexibility Act (5 U.S.C. 601 et seq.).

Unfunded Mandates Reform Act

Because this rule approves pre-existing requirements under state law and does not impose any additional enforceable duty beyond that required by state law, it does not contain any unfunded mandate or significantly or uniquely affect small governments, as described in the Unfunded Mandates Reform Act of 1995 (Pub. L. 104-4).

Executive Order 13175: Consultation and Coordination With Indian Tribal Governments

This rule also does not have tribal implications because it will not have a substantial direct effect on one or more Indian tribes, on the relationship between the Federal Government and Indian tribes, or on the distribution of power and responsibilities between the Federal Government and Indian tribes, as specified by Executive Order 13175 (65 FR 67249, November 9, 2000).

Executive Order 13132: Federalism

This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act.

Executive Order 13045: Protection of Children From Environmental Health and Safety Risks

This rule also is not subject to Executive Order 13045 “Protection of Children from Environmental Health Risks and Safety Risks” (62 FR 19885, April 23, 1997), because it is not economically significant.

National Technology Transfer Advancement Act

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply.

Paperwork Reduction Act

This rule does not impose an information collection burden under the provisions of the Paperwork Reduction Act of 1995 (44 U.S.C. 3501 et seq.).

Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by September 27, 2004. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Ozone, Reporting and recordkeeping requirements, Volatile organic compounds.

Dated: June 18, 2004.
Norman Niedergang,
Acting Regional Administrator, Region 5.

Title 40 of the Code of Federal Regulations, chapter I, part 52, is amended as follows:

PART 52—[AMENDED]

1. The authority citation for part 52 continues to read as follows:

Authority: 42 U.S.C. 7401 et seq.

2. Section 52.720 is amended by adding paragraph (c)(173) to read as follows:

§ 52.720 Identification of plan.

* * * * *

(c) * * *

(173) On March 11, 2004, Illinois submitted an Adjusted Standard for Argonne National Laboratory's degreasing operations. Pursuant to this Adjusted Standard from 35 Ill. Adm. Code 218.182, the applicable vapor pressure and other associated requirements of 35 Ill. Code 218.182 do not apply to cold cleaning involving the preparation of sample materials and associated apparatus used for research and development testing and analysis at Argonne. These revised requirements were adopted in the Illinois Pollution Control Board's December 18, 2003, Adjusted Standard AS 03-4.

(i) Incorporation by reference.

(A) The Illinois Pollution Control Board's December 18, 2003, Opinion and Order which granted the Argonne National Laboratory's degreasing operations an Adjusted Standard (AS 03-4) from 35 Ill. Code 218.182 for its cold cleaning involving the preparation of sample materials and associated apparatus used for research and development testing and analysis at Argonne.

[FR Doc. 04-17165 Filed 7-27-04; 8:45 am]

BILLING CODE 6560-50-P